DEPARTMENT OF COMMERCE

Foreign-Trade Zones Board

[Docket 34-2002]

Foreign-Trade Zone 214—Lenoir County, North Carolina Application for Expansion

An application has been submitted to the Foreign-Trade Zones Board (the Board) by the North Carolina Global TransPark Authority, grantee of Foreign-Trade Zone 214, requesting authority to expand its zone to include an additional site in Rocky Mount, North Carolina, adjacent to the Durham Customs port of entry. The application was submitted pursuant to the provisions of the Foreign-Trade Zones Act, as amended (19 U.S.C. 81a-81u), and the regulations of the Board (15 CFR part 400). It was formally filed on September 3, 2002.

FTZ 214 was approved on May 7, 1996 (Board Order 815, 61 FR 27048, 5/30/96). The zone currently consists of a site at the Kinston Regional Jetport complex (1,170 acres) in Lenoir County, North Carolina.

The applicant is now requesting authority to expand the general-purpose zone to include an additional site in Rocky Mount: Site 2 (35 acres) at the warehouse facility of Kanban Logistics, Inc., 1114 Kingsboro Road, Rocky Mount (Edgecombe County), North Carolina. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW, Washington, DC 20005; or

2. Submissions via the U.S. Postal Service: Foreign-Trade Zones Board, U.S. Department of Commerce, FCB—Suite 4100W, 1401 Constitution Avenue NW, Washington, DC 20230.

The closing period for their receipt is November 12, 2002. Rebuttal comments in response to material submitted during the foregoing period may be submitted during the subsequent 15-day period (to November 25, 2002).

A copy of the application and accompanying exhibits will be available for public inspection at the Office of the Foreign-Trade Zones Board's Executive Secretary at the first address listed above, and at the office of the Carolinas Gateway Partnership, 427 Falls Road, Rocky Mount, NC 27804-4808.

Dated: September 4, 2002.
Pierre V. Duy,
Acting Executive Secretary.

[FR Doc. 02-23000 Filed 9-9-02; 8:45 am]

BILLING CODE 3510-DS-P